DEPARTMENT OF EDUCATION

State Fiscal Stabilization Fund Program

AGENCY: Office of Elementary and Secondary Education, Department of Education.

ACTION: Notice announcing deadline for submitting an application under Phase II of the State Fiscal Stabilization Fund (SFSF) program.

Catalog of Federal Domestic Assistance (CFDA) Number: 84.394.

SUMMARY: Under the SFSF program, authorized in Title XIV of the American Recovery and Reinvestment Act of 2009 (ARRA), Public Law No. 111-5, the U.S. Department of Education (Department) is awarding Education Stabilization funds in two phases. In Phase I, the Department awarded each State a portion of its SFSF Education Stabilization funds on the basis of the information included in its Application for Initial Funding. The Department is awarding the remainder of each State's allocation based on the information that the State will provide in its Phase II application.

In this notice, we establish the deadline for submission of the Phase II SFSF applications.

Application Deadline: January 11, 2010, 4:30:00 p.m. Washington, DC time.

SUPPLEMENTARY INFORMATION: A State that is unable to meet the deadline established in this notice may request an extension of the deadline. Such an extension request must, at a minimum, explain why the State seeks an extension and indicate when the State proposes to submit its application. Requests for an extension should be submitted to the person listed under FOR FURTHER INFORMATION CONTACT.

Electronic Submission of Applications:

A Governor must submit an electronic version of the State's application in .PDF (Portable Document) format to PhaseIIapplication@ed.gov by January 11, 2010, 4:30:00 p.m., Washington, DC time. A Governor also must mail the original and two copies of the application to: Dr. Joseph C. Conaty, Director, Academic Improvement and Teacher Quality Programs, Office of Elementary and Secondary Education, U.S. Department of Education, 400 Maryland Avenue, SW., Room 3E314, Washington, DC 20202.

FOR FURTHER INFORMATION CONTACT: Mr. James Butler, U.S. Department of Education, 400 Maryland Avenue, SW., room 3E108, Washington, DC 20202. Telephone: (202) 260-9737 or via e-mail: state.fiscal.fund@ed.gov.

If you use a telecommunications device for the deaf (TDD), call the Federal Relay Service (FRS) at 1-800-877-8339.

Individuals with disabilities can obtain this notice in an accessible format (e.g., braille, large print, audiotape, or computer diskette) on request to the contact person listed under FOR FURTHER INFORMATION CONTACT.

Electronic Access To This Document: You can view this document, as well as other Department of Education documents published in the Federal Register, in text or Adobe Portable Document Format (PDF) on the Internet at the following site: www.ed.gov/news/fedregister. To use PDF you must have Adobe Acrobat Reader, which is available free at this site.

Note: The official version of this document is the document published in the Federal Register. Free Internet access to the official version of the Federal Register and the Code of Federal Regulations is available on GPO Access at: http://www.gpoaccess.gov/nara/index.html.

Program Authority: American Recovery and Reinvestment Act of 2009, Division A, sections 14001-14013.

Dated: November 10, 2009.
Thelma Meléndez de Santa Ana,
Assistant Secretary for Elementary and Secondary Education.

[FR Doc. E9-27517 Filed 11-16-09; 8:45 am]

BILLING CODE 4000-01-P